DEPARTMENT OF TRANSPORTATION

Federal Aviation Administration

[Proposed Policy Statement Numbers ANE-2001-35.13-R0 and ANE-2001-35.31-R0]

Policy for Propeller Level Failure Effects; Policy for Bird Strike, Lightning, and Centrifugal Load Testing for Composite Propeller Blades

AGENCY: Federal Aviation Administration, DOT.

ACTION: Notice of proposed policy statements; request for comments.

SUMMARY: The Federal Aviation Administration (FAA) announces the availability of proposed policy for propeller-level failure effects and proposed policy for bird strike, lightning, and centrifugal load testing for composite propeller blades.

DATES: Comments must be received by June 14, 2002.

ADDRESSES: Send all comments on the proposed policy to the individual identified under FOR FURTHER INFORMATION CONTACT.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199.

SUPPLEMENTARY INFORMATION:

Comments Invited

The proposed policy statements are available on the Internet at the following address: http://www.faa.gov/certification/aircraft/enginedraftpolicyby.htm. If you do not have access to the Internet, you may request a copy of the proposed policies by contacting the individual listed under FOR FURTHER INFORMATION CONTACT. The FAA invites interested parties to comment on the proposed policies. Comments should identify the subject of the proposed policy and be submitted to the individual identified under FOR FURTHER INFORMATION CONTACT. The FAA will consider all comments received by the closing date before issuing the final policies.

Background

Many new propeller certification programs include composite blades and spinners and electronic controls. Part 35 of Title 14 of the Code of Federal Regulations (14 CFR part 35) does not have explicit safety standards for the substantiation of propellers with composite blades and spinners for bird strike, lightning strike, and centrifugal loads, nor does it address electronic controls and safety assessment. The safety standards for these design features and analyses have been incorporated into the propeller certification basis by issuing special conditions. Until rulemaking is finalized to incorporate these standards into part 35, individual propeller certifications that contain these novel or unusual design features must continue to be addressed with special conditions.

Proposed Policy Statement Number ANE-2001-35.13-R0 would provide guidance for the development of those special conditions with regard to propeller level failure effects. Proposed Policy Statement Number ANE-2001-35.31-R0 would provide guidance for structurally substantiating propellers with composite blades and spinners for bird strike, lightning strike, and centrifugal loads. The proposed policies would not establish new requirements.

Authority: 49 U.S.C. 106(g), 40113, 44701-44702, 44704.

Issued in Burlington, Massachusetts, on April 17, 2002.
Francis Favara,
Assistant Manager, Engine and Propeller Directorate, Aircraft Certification Service.

[FR Doc. 02-10497 Filed 4-26-02; 8:45 am]

BILLING CODE 4910-13-P